POSTAL REGULATORY COMMISSION

[Docket Nos. MC2012-44; Order No. 1435]

New Postal Product

AGENCY: Postal Regulatory Commission.

ACTION: Notice.

SUMMARY: The Commission is noticing a recently-filed Postal Service request for two related changes to the product lists. The changes involve removing one product from the market dominant product list and adding a nearly identical product to the competitive product list. This notice addresses procedural steps associated with this filing.

DATES: Comments are due: August 24, 2012.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel at 202-789-6820.

SUPPLEMENTARY INFORMATION: Notice of filing. The Commission hereby provides notice that on August 10, 2012, the Postal Service file a Request pursuant to 39 U.S.C. 3642 and 39 CFR 3020.30 et seq. seeking two related changes to the product lists.¹ The requested changes would (1) remove Outbound Single-Piece First-Class Mail International Packages (Small Packets) and Rolls from the market dominant product list; and (2) add “First-Class Package International Service™ ” (FCPIS), which the Postal Service characterizes as a nearly identical product, to the competitive product list. Outbound Single-Piece First-Class Mail International Letters, Postcards, and Large Envelopes (flats) would remain on the market dominant list.

¹ Request of the United States Postal Service to Transfer Outbound Single-Piece First-Class Mail International Packages and Rolls to the Competitive Product List, August 10, 2012 (Request). The Postal Service seeks Commission action on the instant Request by September 10, 2012 to facilitate the anticipated mid-September 2012 filing of a notice of market-dominant price adjustment. Id. at 3.

Product description. The Postal Service describes First-Class Mail International Packages and Rolls as parcel shipping products that compete in a vibrant marketplace with private sector enterprises, such as FedEx, DHL and UPS. Id. at 2. It asserts that although these items are currently classified on the market dominant product list, they fulfill all of the criteria for competitive products under 39 U.S.C. 3642. Id. The Postal Service also provides other observations in support of the proposed changes, including the Commission's approval of the transfer of Parcel Post to the competitive product list in Docket No. MC2012-13. Id.

Public documents. The Request includes the following supporting publicly-available material:

• Attachment A—a copy of Governors' Resolution No.12-08, adopted August 8, 2012, authorizing the Request;

• Attachment B—a Statement of Supporting Justification addressing applicable rule 3020.32 requirements; and

• Attachment C—proposed Mail Classification Schedules.

Non-public documents. In contemporaneous Notices, the Postal Service announced the filing of two library references as non-public documents. One provides disaggregated cost, volume and revenue data; the other presents market research.² The Notices include applications for non-public treatment.

² See United States Postal Service Notice of Filing Library Reference USPS-LR-MC2012-44/NP1 and Application for Non-public Treatment and United States Postal Service Notice of Filing Library Reference USPS-LR-MC2012-44/NP2 and Application for Non-public Treatment (both filed August 10, 2012).

Proceedings. The Commission establishes Docket No. MC2012-44 for consideration of the instant Request. Interested persons may submit comments on whether the Request is consistent with the policies of 39 U.S.C. 3642 and 3633 and 39 CFR 3020.30. Comments are due no later than August 24, 2012. Reply comments, if any, are due August 31, 2012. Comments are to be filed via the Commission's Filing Online system at http://www.prc.gov unless a waiver is obtained. Information on how to obtain a waiver is available from the Commission's docket section at 202-789-6846.

James F. Callow is designated as the Public Representative to represent the interest of the general public in this matter.

It is ordered:

1. The Commission establishes Docket No. MC2012-44 for consideration of the Request of the United States Postal Service to Transfer Outbound Single-Piece First-Class Mail International Packages and Rolls to the Competitive Product List, filed August 10, 2012.

2. Pursuant to 39 U.S.C. 505, the Commission appoints James F. Callow (Public Representative) to represent the interests of the general public in this proceeding.

3. Comments are due by August 24, 2012.

4. Reply comments are due August 31, 2012.

5. The Secretary shall arrange for the publication of this order in the Federal Register.

By the Commission.
Ruth Ann Abrams,
Acting Secretary.

[FR Doc. 2012-20623 Filed 8-21-12; 8:45 am]

BILLING CODE 7710-FW-P